DEPARTMENT OF THE INTERIOR

Fish and Wildlife Service

[FWS-R4-ES-2021-N016; FXES11130100000C4-190-FF02ENEH00]

Endangered and Threatened Wildlife and Plants; Four Draft Recovery Plans

AGENCY: Fish and Wildlife Service, Interior.

ACTION: Notice of availability; opening of public comment period.

SUMMARY: We, the U.S. Fish and Wildlife Service, announce the availability for public review and comment of four draft recovery plans. The endangered or threatened species are in Alabama, Florida, Georgia, Kentucky, South Carolina, Tennessee, and Virginia. The draft recovery plans include specific recovery objectives and criteria based on the species status assessment. We request review and comment on these draft recovery plans from local, State, and Federal agencies, nongovernmental organizations, Tribes, and the public.

DATES: We must receive comments on the draft recovery plans on or before April 26, 2021.

ADDRESSES: Reviewing documents: If you wish to review the recovery plans, you may obtain copies from the website addresses in the table in SUPPLEMENTARY INFORMATION. You may also request copies of the draft recovery plans by contacting the individuals listed in the table.

Submitting comments: If you wish to comment, see the table in SUPPLEMENTARY INFORMATION and submit your comments by the following method:

1. Email: You may send comments by email to the identified contact person's email address in the table, for each species. Please include “Draft Recovery Plan Revision Comments” in the subject line.

FOR FURTHER INFORMATION CONTACT: For general information, contact Aaron Valenta, at 404-679-4144 or Aaron_Valenta@fws.gov. For information on a particular species, contact the appropriate person listed in the table for that species in SUPPLEMENTARY INFORMATION. Individuals who are hearing impaired may call the Federal Relay Service at 800-877-8339 for TTY assistance.

SUPPLEMENTARY INFORMATION:

Background

The purpose of a recovery plan is to provide a feasible and effective roadmap for a species' recovery, with the goal of improving its status and managing its threats to the point at which protections under the Endangered Species Act (ESA; 16 U.S.C. 1531, et seq.) are no longer needed. Section 4(f)(1) of the ESA requires development of recovery plans for listed species unless a plan would not promote the conservation of a particular species. Recovery plans should be designed so that all stakeholders and the public understand the rationale behind the recovery program, whether they were involved in writing the plan or not, and recognize their role in its implementation. We are requesting submission of any information that enhances the necessary understanding of the (1) species' biology and threats, (2) recovery needs and related implementation issues or concerns, and (3) information on ongoing beneficial management efforts to ensure that we have assembled, considered, and incorporated the most current and highest quality information, into the draft recovery plans for these four species.

Recovery plans provide important guidance to the U.S. Fish and Wildlife Service (Service), States, other partners, and the general public on methods of minimizing threats to listed species and objectives against which to measure the progress towards recovery; they are guidance and not regulatory documents. A recovery plan identifies, organizes, and prioritizes recovery actions and is an important guide that ensures sound scientific decision-making throughout the recovery process, which can take decades. Writing robust recovery plans ensures that threatened species and endangered species benefit from timely partner-coordinated implementation, based on the most current and highest quality information.

We must submit draft recovery plans for public notice and comment under section 4(f)(4) of the ESA, including (1) a Federal Register notice of availability to give opportunity for public review and comment and (2) consideration of all information presented during the public comment period, prior to their approval by the Regional Director. When finalized, recovery plans will be made publicly available on the internet through our Environmental Conservation Online System (ECOS; https://ecos.fws.gov).

What plans are being made available for public review and comment?

This notice announces our draft recovery plans for the species listed in the table below.

| Scientific name | Listing status ¹ | Current range | Recovery plan name | Contact person, phone, email | Contact person's U.S. mail address
Reticulated Flatwoods Salamander | Ambystoma bishopi | E | AL, GA, FL | U.S. Fish and Wildlife Service Draft Recovery Plan for the Reticulated Flatwoods Salamander (Ambystoma bishopi) | Lourdes Mena, 904-731-3134, Lourdes_ Mena@fws.gov | U.S. Fish and Wildlife Service, South Florida Ecological Services Office, 1339 20th Street, Vero Beach, FL 32960.
Frosted Flatwoods Salamander | Ambystoma cingulatum | T | SC, GA, FL | U.S. Fish and Wildlife Service Draft Recovery Plan for the Frosted Flatwoods Salamander (Ambystoma cingulatum) | Lourdes Mena, 904-731-3134, Lourdes_ Mena@fws.gov | U.S. Fish and Wildlife Service, South Florida Ecological Services Office, 1339 20th Street, Vero Beach, FL 32960.
Fluted Kidneyshell | Ptychobranchus subtentum (=sub tentus) | E | AL, KY, TN, VA | U.S. Fish and Wildlife Service Draft Recovery Plan for the Fluted Kidneyshell (Ptychobranchus subtentum (=subtentus)) | Lee Andrews, 502-695-0468, x108, Lee_ Andrews@fws.gov | Interior Region 1—North Atlantic-Appalachian (Kentucky), 330 West Broadway, Room 265 Frankfort, KY 40601.
Kentucky Glade Cress | Leavenworthia exigua var. laciniata | T | KY | U.S. Fish and Wildlife Service Draft Recovery Plan for the Kentucky Glade Cress (Leavenworthia exigua var. laciniata) | Lee Andrews, 502-695-0468, x108, Lee_ Andrews@fws.gov | Interior Region 1—North Atlantic-Appalachian (Kentucky), 330 West Broadway, Room 265 Frankfort, KY 40601.
¹ E = endangered; T = threatened.
² Denotes a partial revision (i.e., amendment) to the recovery plan.
³ Denotes a full revision of the recovery plan.

How do I ask questions or provide information?

For any species listed above, please submit your questions, comments, and materials to the appropriate contact in the table above. Individuals who are hearing impaired or speech impaired may call the Federal Relay Service at 800-877-8339 for TTY assistance.

Request for Public Comments

We request written comments on the draft recovery plans. We will consider all comments we receive by the date specified in DATES prior to final approval of the plans.

Public Availability of Comments

All comments received, including names and addresses, will become part of the administrative record and will be available to the public. Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act (16 U.S.C. 1533(f)).

Leopoldo Miranda-Castro,
Regional Director.

[FR Doc. 2021-06234 Filed 3-25-21; 8:45 am]

BILLING CODE 4333-15-P